FEDERAL ELECTION COMMISSION

[Notice 2022-06]

Filing Dates for the Oklahoma Senate Special Election

AGENCY: Federal Election Commission.

ACTION: Notice of filing dates for special election.

SUMMARY: Oklahoma has scheduled special elections to fill the U.S. Senate seat being vacated by Senator James M. Inhofe. There are three possible special elections, but only two may be necessary.

• Primary Election: June 28, 2022.

• Possible Runoff Election: August 23, 2022. In the event that one candidate does not achieve a majority vote in his/her party's Special Primary Election, the top two vote-getters will participate in a Special Runoff Election.

• General Election: November 8, 2022.

FOR FURTHER INFORMATION CONTACT: Ms. Elizabeth S. Kurland, Information Division, 1050 First Street NE, Washington, DC 20463; Telephone: (202) 694-1100; Toll Free (800) 424-9530.

SUPPLEMENTARY INFORMATION:

Special Primary Only

All principal campaign committees of candidates only participating in the Oklahoma Special Primary shall file a Pre-Primary Report on June 16, 2022. (See charts below for the closing date for the report).

Special Primary and General Without Runoff

If only two elections are held, all principal campaign committees of candidates participating in the Oklahoma Special Primary and Special General Elections shall file a Pre-Primary Report on June 16, 2022; a Pre-General Report on October 27, 2022; and a Post-General Report on December 8, 2022. (See charts below for the closing date for each report).

Special Primary and Runoff Elections

If three elections are held, all principal campaign committees of candidates only participating in the Oklahoma Special Primary and Special Runoff Elections shall file a Pre-Primary Report on June 16, 2022; and a Pre-Runoff Report on August 11, 2022. (See charts below for the closing date for each report.)

Special Primary, Runoff and General Elections

All principal campaign committees of candidates participating in the Oklahoma Special Primary, Special Runoff and Special General Elections shall file a Pre-Primary Report on June 16, 2022; a Pre-Runoff Report on August 11, 2022; a Pre-General Report on October 27, 2022; and a Post-General Report on December 8, 2022. (See charts below for the closing date for each report.)

Note that these reports are in addition to the campaign committee's regular quarterly filings. (See charts below for the closing date for each report).

Unauthorized Committees (PACs and Party Committees)

Political committees not filing monthly are subject to special election reporting if they make previously undisclosed contributions or expenditures in connection with the Oklahoma Special Primary, Special Runoff or Special General Elections by the close of books for the applicable report(s). (See charts below for the closing date for each report.)

Committees filing monthly that make contributions or expenditures in connection with the Oklahoma Special Primary, Special Runoff or Special General Elections will continue to file according to the monthly reporting schedule.

Additional disclosure information for the Oklahoma special elections may be found on the FEC website at https://www.fec.gov/help-candidates-and-committees/dates-and-deadlines/.

Disclosure of Lobbyist Bundling Activity

Principal campaign committees, party committees and leadership PACs that are otherwise required to file reports in connection with the special elections must simultaneously file FEC Form 3L if they receive two or more bundled contributions from lobbyists/registrants or lobbyist/registrant PACs that aggregate in excess of $20,200 during the special election reporting periods. (See charts below for closing date of each period.) 11 CFR 104.22(a)(5)(v), (b), 110.17(e)(2), (f).

Calendar of Reporting Dates for Oklahoma Special Elections
Report | Close of books ¹ | Reg./cert. & overnight mailing deadline | Filing deadline
Political Committees Involved in Only the Special Primary (06/28/2022) Must File
Pre-Primary | 06/08/2022 | 06/13/2022 | 06/16/2022
July Quarterly | 06/30/2022 | 07/15/2022 | 07/15/2022
If Only Two Elections Are Held, Political Committees Involved in the Special Primary (06/28/2022) and Special General (11/08/2022) Must File
Pre-Primary | 06/08/2022 | 06/13/2022 | 06/16/2022
July Quarterly | 06/30/2022 | 07/15/2022 | 07/15/2022
October Quarterly | 09/30/2022 | 10/15/2022 | ² 10/15/2022
Pre-General | 10/19/2022 | 10/24/2022 | 10/27/2022
Post-General | 11/28/2022 | 12/08/2022 | 12/08/2022
Year-End | 12/31/2022 | 01/31/2023 | 01/31/2023
If Three Elections Are Held, Political Committees Involved in Only The Special Primary (06/28/2022) and Special Runoff (08/23/2022) Must File
Pre-Primary | 06/08/2022 | 06/13/2022 | 06/16/2022
July Quarterly | 06/30/2022 | 07/15/2022 | 07/15/2022
Pre-Runoff | 08/03/2022 | 08/08/2022 | 08/11/2022
October Quarterly | 09/30/2022 | 10/15/2022 | ² 10/15/2022
If Three Elections Are Held, Political Committees Involved in Only The Special Runoff (08/23/2022) Must File
Pre-Runoff | 08/03/2022 | 08/08/2022 | 08/11/2022
October Quarterly | 09/30/2022 | 10/15/2022 | ² 10/15/2022
Political Committees Involved in the Special Primary (06/28/2022), Special Runoff (08/23/2022) and Special General (11/08/2022) Must File
Pre-Primary | 06/08/2022 | 06/13/2022 | 06/16/2022
July Quarterly | 06/30/2022 | 07/15/2022 | 07/15/2022
Pre-Runoff | 08/03/2022 | 08/08/2022 | 08/11/2022
October Quarterly | 09/30/2022 | 10/15/2022 | ² 10/15/2022
Pre-General | 10/19/2022 | 10/24/2022 | 10/27/2022
Post-General | 11/28/2022 | 12/08/2022 | 12/08/2022
Year-End | 12/31/2022 | 01/31/2023 | 01/31/2023
Political Committees Involved in Only the Special General (11/08/2022) Must File
Pre-General | 10/19/2022 | 10/24/2022 | 10/27/2022
Post-General | 11/28/2022 | 12/08/2022 | 12/08/2022
Year-End | 12/31/2022 | 01/31/2023 | 01/31/2023
¹ The reporting period always begins the day after the closing date of the last report filed. If the committee is new and has not previously filed a report, the first report must cover all activity that occurred before the committee registered as a political committee up through the close of books for the first report due.
² Notice that this filing deadline falls on a weekend or federal holiday. Filing deadlines are not extended when they fall on nonworking days. Accordingly, reports filed by methods other than registered, certified or overnight mail, or electronically, must be received before the Commission's close of business on the last business day before the deadline.

Dated: March 9, 2022.
On behalf of the Commission,
Allen J. Dickerson,
Chairman, Federal Election Commission.

[FR Doc. 2022-05653 Filed 3-16-22; 8:45 am]

BILLING CODE 6715-01-P